DEPARTMENT OF ENERGY

Office of International Regimes and Agreements

Proposed Subsequent Arrangement

AGENCY: Department of Energy.

ACTION: Notice of Proposed Subsequent Arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and the European Atomic Energy Community (EURATOM).

This subsequent arrangement concerns a request for a one-year extension (April 2007 to April 2008) of the current one-year programmatic approval for retransfer of U.S.-obligated irradiated fuel rods between Studsvik Nuclear AB, Sweden and the Institutt for Energiteknikk, Norway. The rods are being transferred for irradiation service, tests and examination, and returned to Sweden for further tests and disposal. The amounts are the same as under the current approval—a maximum of 30,000 grams uranium, 400 grams U-235 and 400 grams plutonium in all shipments combined, with a maximum of 100 grams of plutonium per shipment. The original programmatic consent, published in the Federal Register June 13, 2006, is set to expire in March 2007. Additional transactions are scheduled to occur between April 2007 and April 2008 and will be subject to U.S.-Euratom Agreement for Cooperation on Peaceful Uses of Nuclear Energy.

In accordance with Section 131 of the Atomic Energy Act of 1954, as amended, we have determined that this subsequent arrangement will not be inimical to the common defense and security.

This subsequent arrangement will take effect no sooner than 15 days after the date of publication of this notice.

Dated: January 12, 2007.
For the Department of Energy.
Richard Goorevich,
Director, Office of International Regimes and Agreements.

[FR Doc. E7-914 Filed 1-22-07; 8:45 am]

BILLING CODE 6450-01-P